DEPARTMENT OF COMMERCE

National Oceanic and Atmospheric Administration

RIN 0648-XC42

Marine Mammals; File No. 10040

AGENCY: National Marine Fisheries Service (NMFS), National Oceanic and Atmospheric Administration (NOAA), Commerce.

ACTION: Notice; receipt of application.

SUMMARY: Notice is hereby given that Gary Matson, Matson's Laboratory, LLC, PO Box 308, 8140 Flagler Road, Milltown, MT 59851, has applied in due form for a permit to receive, import and export specimens for scientific research.

DATES: Written, telefaxed, or e-mail comments must be received on or before October 11, 2007.

ADDRESSES: The application and related documents are available for review upon written request or by appointment the following office(s):

Permits, Conservation and Education Division, Office of Protected Resources, NMFS, 1315 East-West Highway, Room 13705, Silver Spring, MD 20910; phone (301) 713-2289; fax (301) 427-2521; and

Northwest Region, NMFS, 7600 Sand Point Way NE, BIN C15700, Bldg. 1, Seattle, WA 98115-0700; phone (206) 526-6150; fax (206) 526-6426.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10040.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting authorization for the receipt, import and export of teeth and prepared microscope slides obtained from seal and sea lion species, expect walrus (Order Pinnipedia). The Matson Laboratory provides age related data to researchers and biologists. Age data are used in population modeling, with age structure an indicator of population condition. Teeth are sent to the laboratory for cementum age analysis. The number of teeth varies depending upon the nature of the project, from a single tooth to several hundred from a legal harvest; no more than 2000 teeth will be analyzed annually. Import and export authority is requested for all locations wherever pinnipeds occur and are the subject of government-authorized research and/or harvest. Principally, these locations are expected to be those within the jurisdiction of the Government of Canada. There will be no incidental takes of non-target species. A permit is requested for five years.

Concurrent with the publication of this notice in the Federal Register, NMFS is forwarding copies of this application to the Marine Mammal Commission and its Committee of Scientific Advisors.

Dated: September 6, 2007.
P. Michael Payne,
Chief, Permits, Conservation and Education Division, Office of Protected Resources, National Marine Fisheries Service.

[FR Doc. E7-17895 Filed 9-10-07; 8:45 am]

BILLING CODE 3510-22-S